DEPARTMENT OF TRANSPORTATION

Federal Transit Administration

Safety Advisory 22-3 Steering Gearbox Bolt Failure

AGENCY: Federal Transit Administration (FTA), U.S. Department of Transportation (DOT).

ACTION: Notice of Safety Advisory.

SUMMARY: The Federal Transit Administration (FTA) is issuing Safety Advisory 22-3 to recommend that transit agencies identify Nova Bus models manufactured in 2018 or later that use a Bosch steering gearbox affixed to the vehicle frame through a mounting plate and perform inspections, as recommended by Nova Bus. In addition, FTA recommends that any transit agency that identifies buses equipped with this mounting plate assembly submit a summary of their findings to FTA. FTA Safety Advisory 22-3 “Steering Gearbox Bolt Failure” is available in its entirety on FTA's Safety Advisory website: (https://www.transit.dot.gov/regulations-and-guidance/safety/fta-safety-advisories).

DATES: FTA recommends that transit agencies perform the actions described in SA 22-3 by December 13, 2022. In addition, FTA recommends that affected transit agencies submit a summary of their findings to FTA via email at FTASystemSafety@dot.gov by January 12, 2023.

FOR FURTHER INFORMATION CONTACT: Joseph DeLorenzo, Associate Administrator for Transit Safety and Oversight and Chief Safety Officer, telephone (202) 366-1783 or Joseph.DeLorenzo@dot.gov.

Authority: 49 U.S.C. 5329; 49 CFR 1.91 and 670.29.

Veronica Vanterpool,
Deputy Administrator.

[FR Doc. 2022-25896 Filed 11-25-22; 8:45 am]

BILLING CODE 4910-57-P